PEACE CORPS

Information Collection Requests Under OMB Review

November 3, 2010.

AGENCY: Peace Corps.

ACTION: 60-Day notice and request for comments.

SUMMARY: In accordance with the Paperwork Reduction Act, this notice invites the public to comment on the proposed collection of information by the Peace Corps' Office of Communications. The Peace Corps' Office of Communications wishes to collect feedback from Peace Corps applicants and Returned Volunteers to help understand which factors are driving recruitment attrition, as well as what information or education needs would increase the conversion ratio. Former applicants and Returned Volunteers will be contacted by e-mail and will be asked to complete a quantitative online survey to better understand candidate motivation to serve as a volunteer, their perceptions of Peace Corps and their experience with Peace Corps' recruitment and selection process.

DATES: Submit comments on or before January 7, 2011.

ADDRESSES: Comments should be addressed to Denora Miller, FOIA Officer, 1111 20th Street, NW., DC 20526. Denora Miller can be contacted by telephone at 202-692-1236 or e-mail at pcfr@peacecorps.gov. E-mail comments must be made in text and not in attachments.

FOR FURTHER INFORMATION CONTACT: Denora Miller at Peace Corps address above.

SUPPLEMENTARY INFORMATION: The purpose of this survey is to collect feedback from Peace Corps applicants and Returned Volunteers to help understand which factors are driving recruitment attrition, as well as what information or education needs would increase the conversion ratio. An online survey will be conducted among 1,200 Peace Corps applicants and Returned Peace Corps Volunteers including 300 from each of the following segments: Inquire—complete an initial inquiry but do not begin or submit an application; Begin application—but either do not submit it or move forward; Submit complete application—but then elect not to proceed by stopping communication or actively withdrawing during the review process; Returned Peace Corps Volunteers—who recently closed Peace Corps service in the past two years. Including Returned Peace Corps Volunteers in the study will provide information to understand what is working in the application process and will help guide the strategies for correcting the conversion loss. There is no statutory or regulatory requirement for this information.

Method: The information will be collected through an online survey.

Title: Peace Corps Conversion Loss Survey.

OMB Control Number: [To be assigned.]

Type of Review: New.

Affected Public: Former applicants to the Peace Corps and Returned Peace Corps Volunteers.

Respondents' obligation to reply: Voluntary.

Estimate of the total number of respondents and the amount of time for an average respondent to respond: 1,200.

Estimated time to complete survey: 20 minutes average on-line written response time.

Estimate of the total public burden (in hours) associated with this collection: 400 hours.

Frequency of Response: 1 time.

Estimated number of respondents: 1,200.

General description of collection: To understand which factors are driving recruitment attrition, as well as what information or education needs would increase the conversion ratio.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who respond, including through the use of automated collection techniques, when appropriate, and other forms of information technology.

This notice issued in Washington, DC on November 3, 2010.
Garry W. Stanberry,
Deputy Associate Director for Management.

[FR Doc. 2010-28128 Filed 11-5-10; 8:45 am]

BILLING CODE 6051-01-P